ENVIRONMENTAL PROTECTION AGENCY

[EPA-HQ-OEI-2011-0359; FRL-9441-4]

Amendment of Inspector General Operations & Reporting System Audit, Assignment, and Timesheet Files (EPA-42)

AGENCY: Environmental Protection Agency.

ACTION: Notice.

SUMMARY: Pursuant to the provisions of the Privacy Act of 1974 (5 U.S.C. 552a), the Office of Inspector General (OIG) is giving notice that it proposes to amend an existing system of records by changing the name of the system from the Inspector General Operations & Reporting (IGOR) System Audit, Assignment, and Timesheet Files (EPA-42) to the Inspector General Enterprise Management System (IGEMS) Audit, Assignment, and Timesheet Modules.

DATES: Effective Dates: Persons wishing to comment on this system of records notice must do so by August 29, 2011.

ADDRESSES: Submit your comments, identified by Docket ID No. EPA-HQ-OEI-2011-0359, by one of the following methods:

• http://www.regulations.gov: Follow the online instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room 3334, 1301 Constitution Ave., NW., Washington, DC. Such deliveries are only accepted during the Docket's normal hours of operation, and special arrangements should be made for deliveries of boxed information.

Instructions: Direct your comments to Docket ID No. EPA-HQ-OEI-2011-0359. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information for which disclosure is restricted by statute. Certain other material, such as copyrighted material, will be publicly available only in hard copy. Publicly available docket materials are available either electronically in http://www.regulations.gov or in hard copy at the OEI Docket, EPA/DC, EPA West Building, Room 3334, 1301 Constitution Ave., NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Chris Han, 202-566-2939

SUPPLEMENTARY INFORMATION:

I. General Information

The Inspector General Operations & Reporting (IGOR) System Audit, Assignment, and Timesheet Files (EPA-42) will be changed to Inspector General Enterprise Management System (IGEMS) Audit, Assignment, and Timesheet Modules. The System assists the OIG planning and managing audits, evaluations, investigations and other OIG activities. The privacy of individuals is protected through user authentication and system roles, permissions and privileges. The system is operated and maintained by the Office of Inspector General, Office of Mission Systems.

Dated: July 8, 2011.
Malcolm D. Jackson,
Assistant Administrator and Chief Information Officer.

EPA-42

System Name:

Inspector General Enterprise Management System (IGEMS) Audit, Assignment, and Timesheet Modules.

System Location:

Enterprise Technology Services Division, Environmental Protection Agency, Research Triangle Park, NC 27711.

Categories of Individuals Covered by the System:

Office of Inspector General (OIG) employees; individuals who request audits or special projects; names of individual auditees.

Categories of Records in the System:

Incoming audit requests, assignment sheets, review sheets, and reports; incoming special project requests, assignment sheets, and memorandums or briefing materials; and OIG employee timesheets.

Authority for Maintenance of the System Includes Any Revisions or Amendments):

Inspector General Act of 1978, 5 U.S.C. app. 3.

Purpose(s):

To assist the OIG in planning and managing audits, evaluations, investigations and other OIG activities.

Routine Uses of Records Maintained in the System, Including Categories of Users and the Purposes of Such Uses:

General routine uses A, B, C, D E, F, G, H, I, J, K, and L apply to this system.

Policies and Practices for Storing, Retrieving, Accessing, Retaining, and Disposing of Records in the System:

Storage:

In a computer database.

Retrievability:

By assignment number, audit report number, the name and social security number of the assigned OIG auditor, or the name of the audit requestor.

The general assignment module contains records that are retrieved by assignment number, and the name and Social Security Number of the OIG employee performing the assignment.

Safeguards:

Computer records are maintained in a secure, password protected computer system. All records are maintained in secure, access-controlled areas or buildings.

Retention and Disposal:

Records stored in this system are subject to EPA Schedule 707.

System Manager(s) and Address:

Assistant Inspector General for Mission Systems, Office of Inspector General, Environmental Protection Agency, 1200 Pennsylvania Avenue NW., Washington, DC 20460.

Notification Procedures:

Requests to determine whether this system of records contains a record pertaining to you must be sent to the Agency's Freedom of Information Office. The address is: U.S. Environmental Protection Agency; 1200 Pennsylvania Ave., NW., Room 6416 West; Washington, DC 20460; (202) 566-1667; E-mail: (hq.foia@epa.gov); Attn: Privacy Act Officer.

Records Access Procedure:

Persons seeking access to their own personal information in this system of records will be required to provide adequate identification (e.g., driver's license, military identification card, employee badge or identification card) and, if necessary, proof of authority. Additional identity verification procedures may be required as warranted. Requests must meet the requirements of EPA regulations at 40 CFR part 16.

Contesting Records Procedure:

Requests for correction or amendment must identify the record to be changed and the corrective action sought. Complete EPA Privacy Act procedures are set out in 40 CFR part 16.

Record Source Categories:

Record subject, OIG supervisors, other EPA employees.

Systems Exempted From Certain Provisions of the Act:

None.

[FR Doc. 2011-18158 Filed 7-18-11; 8:45 am]

BILLING CODE 6560-50-P